DEPARTMENT OF TRANSPORTATION

National Highway Traffic Safety Administration

[Docket No. NHTSA-2012-0045; Notice 2]

Hyundai-Kia America Technical Center, Inc., Grant of Petition for Decision of Inconsequential Noncompliance

AGENCY: National Highway Traffic Safety Administration, DOT.

ACTION: Grant of Petition.

SUMMARY: Hyundai America Technical Center, Inc. on behalf of Hyundai Motor Company (collectively referred to as “Hyundai”) ¹ has determined that certain model year (MY) 2012 Hyundai Veracruz multipurpose passenger vehicles (MPV) manufactured August 9, 2011, through January 8, 2012, that were equipped with 7J x 18 wheel rims, do not fully comply with paragraph § 4.3.3 of Federal Motor Vehicle Safety Standard (FMVSS) No. 110, Tire Selection and Rims and Motor Home/Recreation Vehicle Trailer Load Carrying Capacity Information for Motor Vehicles with a GVWR of 4,536 Kilograms (10,000 pounds) or less. Hyundai has filed an appropriate report dated February 9, 2012, pursuant to 49 CFR Part 573, Defect and Noncompliance Responsibility and Reports.

¹ Hyundai America Technical Center, Inc., is a corporation registered under the laws of the state of Michigan.

Pursuant to 49 U.S.C. 30118(d) and 30120(h) and the rule implementing those provisions at 49 CFR part 556, Hyundai has petitioned for an exemption from the notification and remedy requirements of 49 U.S.C. Chapter 301 on the basis that this noncompliance is inconsequential to motor vehicle safety. Notice of receipt of the petition was published, with a 30-day public comment period, on June 7, 2012 in the Federal Register (77 FR 33807). No comments were received. To view the petition and all supporting documents log onto the Federal Docket Management System (FDMS) Web site at: http://www.regulations.gov/. Then follow the online search instructions to locate docket number “NHTSA-2012-0045.”

Contact Information: For further information on this decision contact Ms. Amina Fisher, Office of Vehicle Safety Compliance, the National Highway Traffic Safety Administration (NHTSA), telephone (202) 366-5307, facsimile (202) 366-5930.

Vehicles Involved: Affected are approximately 2,764 model year 2012 Hyundai Veracruz vehicles produced beginning on August 9, 2011, through January 8, 2012, that were equipped with 7J x 18 wheel rims at the assembly plant.

Background Requirement: Section § 4.3.3 of FMVSS No. 110 specially states:

§ 4.3.3 Additional labeling information for vehicles other than passenger cars. Each vehicle shall show the size designation and, if applicable, the type designation of rims (not necessarily those on the vehicle) appropriate for the tire appropriate for use on that vehicle, including the tire installed as original equipment on the vehicle by the vehicle manufacturer, after each GAWR listed on the certification label required by § 567.4 or § 567.5 of this chapter. This information shall be in the English language, lettered in block capitals and numerals not less than 2.4 millimeters high and in the following format

Truck Example—Suitable Tire-Rim Choice.

GVWR: 2,441 kilograms (5381 pounds).

GAWR: Front—1,299 kilograms (2,864 pounds) with P265/70R16 tires, 16 × 8.0 rims at 248 kPa (36 psi) cold single.

GAWR: Rear—1,299 kilograms (2,864 pounds) with P265/70R16 tires, 16 × 8.00 rims, at 248 kPa (36 psi) cold single.

Summary of Hyundai's Analyses: Hyundai explains that the noncompliance is that the rim size information required by paragraph § 4.3.3 of FMVSS No. 110 was omitted from the certification labels that it installed on the affected vehicles.

Hyundai stated its belief that the subject noncompliance is inconsequential to motor vehicle safety for the following reasons:

1. The missing rim size information on the certification label is inconsequential as it relates to motor vehicle safety, because this information is readily available to the vehicle owner through other sources that are required to be furnished with the vehicle. The rim size is marked on the rims and is included in the Owner's Manual, which is referenced as an information source by the tire placard which is positioned adjacent to the certification label on the “B” pillar. FMVSS No. 110 § 4.4.2(b) ² requires that each rim be marked with the rim size designation. The affected vehicles are equipped with rims that are marked with the rim size and meet the requirements of FMVSS No. 110 § 4.4.2.

² The citation that Hyundai referenced for rim size designation marking requirements in its petition, paragraph § 4.2.2, is incorrect. The correct citation is paragraph § 4.4.2.

2. The tire placard required by FMVSS No. 110 § 4.3(d) requires that the tire size designation be provided for the tires installed at the time of the first purchase and FMVSS No. 110 § 4.3(f) requires that the placard state “See Owner's Manual for Additional Information”. The affected vehicles are equipped with placards that meet the requirements of FMVSS No. 110 § 4.3.

Hyundai also stated that they are not aware of any notices, bulletins, or other communications that relate directly to the noncompliance sent to more than one manufacturer, distributor, dealer, or purchaser.

Hyundai has additionally informed NHTSA that it has corrected the noncompliance so that all future production vehicles will comply with FMVSS No. 110.

In summation, Hyundai believes that the described noncompliance of the subject vehicles is inconsequential to motor vehicle safety, and that its petition, to exempt from providing recall notification of noncompliance as required by 49 U.S.C. 30118 and remedying the recall noncompliance as required by 49 U.S.C. 30120 should be granted.

NHTSA Decision: NHTSA has reviewed and accepts Hyundai's analyses that the noncompliance is inconsequential to motor vehicle safety. Hyundai has provided sufficient documentation that other than the labeling error, the vehicles comply with all other safety performance requirements of FMVSS No. 110. Since the missing information is provided in other locations, Hyundai has met its burden of persuasion. Accordingly, Hyundai's petition is hereby granted, and Hyundai is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the vehicles that Hyundai no longer controlled at the time it determined that a noncompliance existed. Therefore, this decision only applies to the approximately 2,764 vehicles that Hyundai no longer controlled at the time that it determined that the noncompliance existed. However, the granting of this petition does not relieve distributors and dealers of the prohibitions on the sale, offer for sale, or introduction or delivery for introduction into interstate commerce of the noncompliant vehicles under their control after Hyundai notified them that the subject noncompliance existed.

Authority: 49 U.S.C. 30118, 30120: delegations of authority at 49 CFR 1.95 and 501.8.

Issued on: June 20, 2013.
Claude H. Harris,
Director, Office of Vehicle Safety Compliance.

[FR Doc. 2013-15282 Filed 6-25-13; 8:45 am]

BILLING CODE 4910-59-P